DEPARTMENT OF HEALTH AND HUMAN SERVICES

National Institutes of Health

National Institute of Neurological Disorders and Stroke; Amended Notice of Meeting

Notice is hereby given of a change in the meeting of the National Institute of Neurological Disorders and Stroke Special Emphasis Panel, July 25, 2002, 8:30 a.m. to July 25, 2002, 6 p.m., Monarch Hotel, 2400 M Street, NW., Washington, DC 20037 which was published in the Federal Register on June 26, 2002, 67 FR 02-16076.

The meeting will be held on August 9, 2002 from 8:30 a.m. to 6 p.m. The meeting is closed to the public.

Dated: July 3, 2002.
LaVerne Y. Stringfield,
Direcetor, Office of Federal Advisory Committee Policy.

[FR Doc. 02-17657 Filed 7-12-02; 8:45 am]

BILLING CODE 4140-01-M